GENERAL SERVICES ADMINISTRATION

41 CFR Part 301-10

[FTR Amendment 2005-07; FTR Case 2005-308 ]

RIN 3090-AI21

Federal Travel Regulation; 2006 Privately Owned Vehicle Mileage Reimbursement

AGENCY: Office of Governmentwide Policy, General Services Administration (GSA).

ACTION: Final rule.

SUMMARY: This final rule amends the mileage reimbursement rate for use of a privately owned automobile (POA) on official travel to reflect the decrease in the single standard mileage rate established by the Internal Revenue Service (IRS). 5 U.S.C. 5704(a)(1) prohibits GSA from exceeding the single standard mileage rate established by the IRS. Accordingly, the FTR is revised to decrease the reimbursement of operating a POA from $0.485 to $0.445 per mile.

DATES: Effective date: This final rule is effective January 6, 2006. Applicability date: This final rule is effective for travel performed on and after January 1, 2006.

FOR FURTHER INFORMATION CONTACT: The Regulatory Secretariat, Room 4035, GS Building, Washington, DC, 20405, (202) 208-7312, for information pertaining to status or publication schedules. For clarification of content, contact Umeki Thorne, Office of Governmentwide Policy, email umeki.thorne@gsa.gov or by telephone at (202) 208-7636. Please cite FTR Amendment 2005-07, FTR case 2005-308.

SUPPLEMENTARY INFORMATION:

A. Background

Pursuant to 5 U.S.C 5707(b), the Administrator of General Services has the responsibility to prescribe the privately owned vehicle (POV) mileage reimbursement rates to which Federal employees are entitled when using their privately owned airplanes, automobiles, and motorcycles while engaged on official business. As provided for in 5 U.S.C. 5704(a)(1), the automobile reimbursement rate established by the Administrator of General Services cannot exceed the single standard mileage rate established by the Internal Revenue Service (IRS) for purposes of calculating the deductible costs of operating an automobile for business purposes. The IRS issued Revenue Procedure 2005-78 announcing the new single standard mileage rate for automobiles would be $0.445 per mile effective on January 1, 2006. At this time, this change only affects the mileage reimbursement for privately owned automobiles. GSA is obtaining data from industry sources to determine if an increase or decrease in the mileage reimbursement allowances is warranted for motorcycles and airplanes.

B. Executive Order 12886

This is not a significant regulatory action and, therefore, was not subject to review under Section 6(b) of Executive Order 12866, Regulatory Planning and Review, dated September 30, 1993. This final rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public which require the approval of the Office of Management and Budget (OMB) under 44 U.S.C. 3501, et seq.

E. Small Business Regulatory Enforcement Fairness Act

This final rule is also exempt from congressional review prescribed under 5 U.S.C. 801 since it relates solely to agency management and personnel.

List of Subjects in 41 CFR Part 301-10

Government employees, Travel and transportation expenses.

Dated: December 21, 2005.
David L. Bibb,
Acting Administrator of General Services.

For the reasons set forth in the preamble, under 5 U.S.C. 5701-5709, the General Services Administration (GSA) amends 41 CFR part 301-10 as set forth below:

PART 301-10—TRANSPORTATION EXPENSES

1. The authority citation for 41 CFR part 301-10 is added to read as follows:

Authority: 5 U. S.C. 5707; 40 U.S.C. 121(c), 49 U.S.C. 40118, Office of Management and Budget Circular No. A-126, “Improving the Management and Use of Government Aircraft.” Revised May 22, 1992.

§ 301-10.303 [Amended]

2. In § 301-10.303, in the table, in the second column, in the third entry under the heading “Your reimbursement is”, add “$0.445”.

[FR Doc. 06-86 Filed 1-5-06; 8:45 am]

BILLING CODE 6820-14-S